DEPARTMENT OF THE TREASURY

Office of Foreign Assets Control

Notice of OFAC Sanctions Actions

AGENCY: Office of Foreign Assets Control, Treasury.

ACTION: Notice.

SUMMARY: The Department of the Treasury's Office of Foreign Assets Control (OFAC) is publishing the names of one or more persons that have been placed on OFAC's Specially Designated Nationals and Blocked Persons List (SDN List) based on OFAC's determination that one or more applicable legal criteria were satisfied. All property and interests in property subject to U.S. jurisdiction of these persons are blocked, and U.S. persons are generally prohibited from engaging in transactions with them. OFAC is also publishing updates to the identifying information of one person currently included on the SDN List.

DATES: August 9, 2024.

FOR FURTHER INFORMATION CONTACT: OFAC: Bradley T. Smith, Director, tel.: 202-622-2490; Associate Director for Global Targeting, tel.: 202-622-2420; Assistant Director for Licensing, tel.: 202-622-2480; Assistant Director for Regulatory Affairs, tel.: 202-622-4855; or the Associate Director for Sanctions Enforcement, Compliance & Analysis, tel.: 202-622-2490.

SUPPLEMENTARY INFORMATION:

Electronic Availability

The SDN List and additional information concerning OFAC sanctions programs are available on OFAC's website (https://www.treasury.gov/ofac).

Notice of OFAC Action(s)

A. On August 9, 2024, OFAC determined that the property and interests in property subject to U.S. jurisdiction of the following individuals, entities, and property are blocked under the relevant sanctions authorities listed below.

BILLING CODE 4810-AL-P

Dated: August 9, 2024.
Lawrence M. Scheinert,
Acting Deputy Director, Office of Foreign Assets Control

[FR Doc. 2024-18262 Filed 8-14-24; 8:45 am]

BILLING CODE 4810-AL-C